POSTAL SERVICE

39 CFR Part 964

Rules of Practice Governing Disposition of Mail Withheld from Delivery Pursuant to 39 U.S.C. 3003, 3004

CFR Correction

In Title 39 of the Code of Federal Regulations, revised as of July 1, 2002, on page 326, § 964.6 is corrected by removing the second sentence.

[FR Doc. 03-55511 Filed 4-17-03; 8:45 am]

BILLING CODE 1505-01-D